DEPARTMENT OF COMMERCE

National Oceanic and Atmospheric Administration

Hydrographic Services Review Panel; Membership Solicitation

AGENCY: National Ocean Service, National Oceanic and Atmospheric Administration (NOAA), Department of Commerce.

ACTION: Notice of membership solicitation for Hydrographic Services Review Panel.

SUMMARY: In accordance with the Hydrographic Service Improvements Act of 1998, as amended (33 U.S.C. 892 et seq.), the National Oceanic and Atmospheric Administration (NOAA) is soliciting nominations for membership on its Hydrographic Services Review Panel (HSRP). The HSRP, a Federal advisory committee, advises the Administrator on matters related to the responsibilities and authorities set forth in section 303 of the Hydrographic Services Improvement Act and such other appropriate matters as the Administrator refers to the Panel for review and advice. Those responsibilities and authorities include, but are not limited to: Acquiring and disseminating hydrographic data and providing hydrographic services, as those terms are defined in the Act; promulgating standards for hydrographic data and services; ensuring comprehensive geographic coverage of hydrographic services; and testing, developing, and operating vessels, equipment, and technologies necessary to ensure safe navigation and maintain operational expertise in hydrographic data acquisition and hydrographic services.

The Act states that “voting members of the Panel shall be individuals who, by reason of knowledge, experience, or training, are especially qualified in one or more of the disciplines and fields relating to hydrographic data and hydrographic services, marine transportation, port administration, vessel pilotage, coastal and fishery management, and other disciplines as determined appropriate by the Administrator.” As such, the NOAA Administrator welcomes applications from individuals with expertise in marine navigation, port administration, marine shipping or other intermodal transportation industries, cartography and geographic information systems, geospatial data management, geodesy, physical oceanography, coastal resource management, including coastal resilience and emergency response, and other related fields. As a Federal Advisory Committee, NOAA seeks to balance the HSRP composition to ensure a range of membership viewpoints, expertise, and geographic representation.

To apply for membership on the Panel, applicants are asked to provide: (1) A cover letter that responds to the five “Short Response Questions” listed below as a statement of interest to serve on the Panel, and to highlight specific areas of expertise relevant to the purpose of the Panel; (2) the nominee's area(s) of expertise from the list above; (3) a current resume; and (4) the nominee's full name, title, institutional affiliation, and contact information. Applications should be submitted electronically to the email address specified below or use the nomination form at the following address, http://www.nauticalcharts.noaa.gov/ocs/hsrp/hsrp.htm. The entire package should be 6 pages or fewer in total. NOAA is an equal opportunity employer.

Short Response Questions

(1) List the area(s) of expertise, as listed above, which you would best represent on this Panel.

(2) List the geographic region(s) of the country with which you primarily associate your expertise.

(3) Describe your leadership or professional experiences which you believe will contribute to the effectiveness of this Panel.

(4) Describe your familiarity and experience with NOAA navigation data, products, and services.

(5) Generally describe the breadth and scope of stakeholders, users, or other groups whose views and input you believe you can represent on the Panel.

DATES: Cover letter, responses, and current resume materials should be submitted electronically or sent to the address specified below under further contact information. All materials must be received by August 10, 2015.

ADDRESSES: Submit your cover letter, responses, and current resume materials electronically to Hydroservices.panel@noaa.gov.

FOR FURTHER INFORMATION CONTACT: Lynne Mersfelder-Lewis, HSRP Program Manager, NOAA National Ocean Service, Office of Coast Survey, NOAA (N/CS), 1315 East West Highway, SSMC3 Rm 6864, Silver Spring, Maryland 20910; Telephone: 301-713-2705 x199, Email: Hydroservices.panel@noaa.gov or Lynne.Mersfelder@noaa.gov; or visit the NOS HSRP Web site at http://www.nauticalcharts.noaa.gov/ocs/hsrp/hsrp.htm.

SUPPLEMENTARY INFORMATION: Under 33 U.S.C. 883a, et seq., NOAA's National Ocean Service (NOS) is responsible for providing nautical charts and related information for safe navigation. NOS collects and compiles hydrographic, tidal and current, geodetic, and a variety of other data in order to fulfill this responsibility. The HSRP provides advice on current and emerging oceanographic and marine science technologies relating to operations, research and development; and dissemination of data pertaining to:

(a) Hydrographic surveying;

(b) shoreline surveying;

(c) nautical charting;

(d) water level measurements;

(e) current measurements;

(f) geodetic measurements;

(g) geospatial measurements;

(h) geomagnetic measurements; and

(i) other oceanographic/marine related sciences.

The Panel has fifteen voting members appointed by the NOAA Administrator in accordance with 33 U.S.C. 892c. Members are selected on a standardized basis, in accordance with applicable Department of Commerce guidance. In addition, there are four non-voting members that serve on the Panel: The Co-Directors of the NOAA-University of New Hampshire Joint Hydrographic Center/Center for Coastal and Ocean Mapping, and the Directors of NOAA's Office of National Geodetic Survey and NOAA's Center for Operational Oceanographic Products and Services. The Director, NOAA Office of Coast Survey, serves as the Designated Federal Official (DFO).

This solicitation requests applications to fill five voting member vacancies on the Panel as of January 1, 2016. Additional appointments may be made to fill vacancies left by any members who choose to resign during 2016. Some voting members whose terms expire January 1, 2016, may be reappointed for another full term if eligible.

Full-time officers or employees of the United States may not be appointed as a voting member. Any voting member of the Panel who is an applicant for, or beneficiary of (as determined by the Administrator) any assistance under 33 U.S.C. 892c shall disclose to the Panel that relationship, and may not vote on any matter pertaining to that assistance.

Voting members of the Panel serve a four-year term, except that vacancy appointments are for the remainder of the unexpired term of the vacancy. Members serve at the discretion of the Administrator and are subject to government ethics standards. Any individual appointed to a partial or full term may be reappointed for one additional full term. A voting member may continue to serve until his or her successor has taken office. The Panel selects one voting member to serve as the Chair and another to serve as the Vice Chair. Meetings occur at least twice a year, and at the call of the Chair or upon the request of a majority of the voting members or of the Administrator. Voting members receive compensation at a rate established by the Administrator, not to exceed the maximum daily rate payable under section 5376 of title 5, United States Code, when engaged in performing duties for the Panel. Members are reimbursed for actual and reasonable expenses incurred in performing such duties.

Individuals Selected for Panel Membershp

Upon selection and agreement to serve on the HSRP, individuals who are appointed will become Special Government Employees (SGE) of the United States Government. According to 18 U.S.C. 202(a), an SGE is an officer or employee of an agency who is retained, designated, appointed, or employed to perform temporary duties, with or without compensation, not to exceed 130 days during any period of 365 consecutive days, either on a fulltime or intermittent basis. Please be advised that applicants selected to serve on the Panel must complete the following actions before they can be appointed as a Panel member:

(a) Background Security Check and fingerprinting conducted through NOAA Workforce Management); and

(b) Confidential Financial Disclosure Report—As an SGE, you are required to file a Confidential Financial Disclosure Report to avoid involvement in a real or apparent conflict of interest. You may find the Confidential Financial Disclosure Report at the following Web site. http://www.usoge.gov/forms/form_450.aspx.

Dated: June 21, 2015.
Rear Admiral Gerd F. Glang,
Director, NOAA, Office of Coast Survey, National Ocean Service, National Oceanic and Atmospheric Administration.

[FR Doc. 2015-16153 Filed 6-29-15; 8:45 am]

BILLING CODE P